DEPARTMENT OF THE INTERIOR

National Park Service

[NPS-WASO-NAGPRA-NPS0035770; PPWOCRADN0-PCU00RP14.R50000]

Notice of Inventory Completion: Illinois State Museum, Springfield, IL

AGENCY: National Park Service, Interior.

ACTION: Notice.

SUMMARY: In accordance with the Native American Graves Protection and Repatriation Act (NAGPRA), the Illinois State Museum has completed an inventory of human remains and associated funerary objects and has determined that there is a cultural affiliation between the human remains and associated funerary objects and Indian Tribes or Native Hawaiian organizations in this notice. The human remains and associated funerary objects were removed from multiple locations in Arkansas, including Craighead, Crittenden, Cross, and Lonoke Counties, and an unknown Arkansas locale.

DATES: Repatriation of the human remains and associated funerary objects in this notice may occur on or after June 5, 2023.

ADDRESSES: Brooke M. Morgan, Illinois State Museum Research & Collections Center, 1011 East Ash Street, Springfield, IL 62701, telephone (217) 785-8930, email brooke.morgan@illinois.gov.

SUPPLEMENTARY INFORMATION: This notice is published as part of the National Park Service's administrative responsibilities under NAGPRA. The determinations in this notice are the sole responsibility of the Illinois State Museum. The National Park Service is not responsible for the determinations in this notice. Additional information on the determinations in this notice, including the results of consultation, can be found in the inventory or related records held by the Illinois State Museum.

Description

Sometime between 1956 and 1960, human remains representing, at minimum, two individuals were removed from the Lawhorn site in Craighead County by John Moselage. In 1960, faunal remains from this site were transferred to the Illinois State Museum for Paul Parmalee to analyze. During that analysis, fragmentary human skeletal remains were identified. No associated funerary objects are present. The Lawhorn site dates to the Mississippian period, with earlier Woodland components present to a lesser extent.

On December 28, 1962, human remains representing, at minimum, two individuals were removed from the McDuffee site (32CG21) in Craighead County by Gregory Perino. In 1963, faunal remains from this site were transferred to the Illinois State Museum for Paul Parmalee to analyze. During that analysis, fragmentary human skeletal remains were identified. No associated funerary objects are present. The McDuffee site dates to the Mississippian period.

Sometime between 1957 and 1959, human remains representing, at minimum, 10 individuals were removed from the Banks site (3CT16) in Crittenden County by Gregory Perino of the Gilcrease Foundation. In 1959, together with faunal remains for Paul Parmalee to analyze, these human remains were transferred to the Illinois State Museum. Nine of these individuals are largely represented by isolated postcranial elements, while the tenth individual, an adult male, is represented by a nearly complete skeleton. The one associated funerary object is one lot of mussel shell. The Banks site dates to the Nodena Phase of the Mississippian period.

On an unknown date, human remains representing, at minimum, one individual were removed from Crittenden County. In 1967, these human remains were transferred from a private collection to the Illinois State Museum. No associated funerary objects are present.

On an unknown date, human remains representing, at minimum, one individual were removed from Crittenden County. In 2009, these human remains were donated from a private estate to the Illinois State Museum. No associated funerary objects are present.

On an unknown date, human remains representing, at minimum, one individual were removed from the Rose Mound site (3CS27) in Cross County and later donated to the Quincy Museum in Quincy, IL. In 1991, these human remains were transferred to the Illinois State Museum. No associated funerary objects are present. Rose Mound dates to the Parkin Phase of the Mississippian period.

On an unknown date, human remains representing, at minimum, one individual were removed from “a mound near Little Rock,” most likely Toltec Mounds (3LN42) in Lonoke County. In 1967, these human remains were transferred from a private collection to the Illinois State Museum. No associated funerary objects are present. Toltec Mounds dates to the Late Woodland (Plum Bayou culture) and Quapaw Phase of the Mississippian period.

On an unknown date, human remains representing, at minimum, one individual were removed from an unknown location in Arkansas. In 1967, these human remains were transferred from a private collection to the Illinois State Museum. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, and oral traditional.

Determinations

Pursuant to NAGPRA and its implementing regulations, and after consultation with the appropriate Indian Tribes and Native Hawaiian organizations, the Illinois State Museum has determined that:

• The human remains described in this notice represent the physical remains of 19 individuals of Native American ancestry.

• The one object described in this notice is reasonably believed to have been placed with or near individual human remains at the time of death or later as part of the death rite or ceremony.

• There is a relationship of shared group identity that can be reasonably traced between the human remains and associated funerary objects described in this notice and the Quapaw Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 5, 2023. If competing requests for repatriation are received, the Illinois State Museum must determine the most appropriate requestor prior to repatriation. Requests for joint repatriation of the human remains and associated funerary objects are considered a single request and not competing requests. The Illinois State Museum is responsible for sending a copy of this notice to the Indian Tribe identified in this notice.

Authority: Native American Graves Protection and Repatriation Act, 25 U.S.C. 3003, and the implementing regulations, 43 CFR 10.9, § 10.10, and § 10.14.

Dated: April 25, 2023.
Melanie O'Brien,
Manager, National NAGPRA Program.

[FR Doc. 2023-09473 Filed 5-3-23; 8:45 am]

BILLING CODE 4312-52-P